DEPARTMENT OF ENERGY

Federal Energy Regulatory Commission

Notice of Effectiveness of Exempt Wholesale Generator Status

Tyler Bluff Wind Project, LLC | EG16-109-000
Kelly Creek Wind, LLC | EG16-110-000
Great Western Wind Energy, LLC | EG16-111-000
Salt Fork Wind, LLC | EG16-112-000
Mariah del Norte LLC | EG16-113-000
Kingman Wind Energy I, LLC | EG16-114-000
Kingman Wind Energy II, LLC | EG16-115-000
Rush Springs Wind Energy, LLC | EG16-116-000
Innovative Owner 43, LLC | EG16-117-000
Western Antelope Blue Sky Ranch B LLC | EG16-118-000
Antelope DSR 2, LLC | EG16-119-000
Western Antelope Dry Ranch LLC | EG16-120-000
North Star Solar PV LLC | EG16-121-000
Hancock Wind, LLC | EG16-122-000
Five Points Solar Park LLC | EG16-124-000
BNB Lamesa Solar LLC | EG16-125-000

Take notice that during the month of August 2016, the status of the above-captioned entities as Exempt Wholesale Generators became effective by operation of the Commission's regulations. 18 CFR 366.7(a).

Dated: September 9, 2016.
Nathaniel J. Davis, Sr.,
Deputy Secretary.

[FR Doc. 2016-22203 Filed 9-14-16; 8:45 am]

BILLING CODE 6717-01-P